DEPARTMENT OF ENERGY

Federal Energy Regulatory Commission

[Project No. 14519-000]

Ted P. Sorenson; Notice of Preliminary Permit Application Accepted for Filing and Soliciting Comments, Motions To Intervene, and Competing Applications

On May 1, 2013, Ted P. Sorenson filed an application for a preliminary permit, pursuant to section 4(f) of the Federal Power Act (FPA), proposing to study the feasibility of the St. Mary Drops Hydroelectric Project (project) to be located on the St. Mary Canal System, 27 miles north Browning in Glacier County, Montana. The St. Mary Canal System is part of the Milk River Project, which is managed by the Bureau of Reclamation. The sole purpose of a preliminary permit, if issued, is to grant the permit holder priority to file a license application during the permit term. A preliminary permit does not authorize the permit holder to perform any land-disturbing activities or otherwise enter upon lands or waters owned by others without the owners' express permission.

The proposed project would consist of the following new facilities: (1) A 1.5-mile-long canal to replace the existing drop structure on the St. Mary Canal; (2) a 0.25-mile-long, 9.5-foot-diameter penstock; (3) a powerhouse containing two Francis turbines with a total installed capacity of 3.5 megawatts discharging project flows directly into the St. Mary Canal; (4) a 3.5-mile-long, 12.5-kilovolt transmission line extending from the project powerhouse to an existing transmission line; and (5) appurtenant facilities. The estimated annual generation of the project would be 21 gigawatt-hours.

Applicant Contact: Mr. Ted P. Sorenson, Sorenson Engineering, Inc., 5203 South 11th East, Idaho Falls, Idaho 83404; phone: (208) 522-8069.

FERC Contact: Kim Nguyen; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14519) in the docket number field to access the document. For assistance, contact FERC Online Support.

Dated: June 14, 2013.
Kimberly D. Bose,
Secretary.

[FR Doc. 2013-14731 Filed 6-19-13; 8:45 am]

BILLING CODE 6717-01-P